DEPARTMENT OF AGRICULTURE

National Institute of Food and Agriculture

7 CFR Part 3434

RIN 0524-AA39

Hispanic-Serving Agricultural Colleges and Universities (HSACU) Certification Process

AGENCY: National Institute of Food and Agriculture (NIFA), USDA.

ACTION: Final rule.

SUMMARY: This amendment to NIFA regulations updates the list of institutions that are granted Hispanic-Serving Agricultural Colleges and Universities (HSACU) certification by the Secretary and are eligible for HSACU programs for the period starting October 1, 2017, and ending September 30, 2018.

DATES: This rule is effective March 19, 2018 and applicable October 1, 2017.

FOR FURTHER INFORMATION CONTACT: Joanna Moore; Senior Policy Specialist; National Institute of Food and Agriculture; U.S. Department of Agriculture; STOP 2272; 1400 Independence Avenue SW, Washington, DC 20250-2272; Voice: 202-690-6011; Fax: 202-401-7752; Email: jmoore@nifa.usda.gov.

SUPPLEMENTARY INFORMATION:

HSACU Institutions for Fiscal Year 2018

This rule makes changes to the existing list of institutions in appendix B of 7 CFR part 3434. The list of institutions is amended to reflect the institutions that are granted HSACU certification by the Secretary and are eligible for HSACU programs for the period starting October 1, 2017, and ending September 30, 2018.

Certification Process

As stated in 7 CFR 3434.4, an institution must meet the following criteria to receive HSACU certification: (1) Be a Hispanic-Serving Institution (HSI), (2) offer agriculture-related degrees, (3) not appear on the Excluded Parties List System (EPLS), (4) be accredited, and (5) award at least 15% of agriculture-related degrees to Hispanic students over the two most recent academic years.

NIFA obtained the latest report from the U.S. Department of Education's National Center for Education Statistics that lists all HSIs and the degrees conferred by these institutions (completion data) during the 2015-16 academic year. NIFA used this report to identify HSIs that conferred a degree in an instructional program that appears in appendix A of 7 CFR part 3434 and to confirm that over the 2014-15 and 2015-16 academic years at least 15% of the degrees in agriculture-related fields were awarded to Hispanic students. NIFA further confirmed that these institutions were nationally accredited and were not on the exclusions listing in the System for Award Management (https://www.sam.gov/portal/SAM/##11).

The updated list of HSACUs is based on (1) completions data from 2014-15 and 2015-16, and (2) enrollment data from Fall 2016. NIFA identified 147 institutions that met the eligibility criteria to receive HSACU certification for FY 2018 (October 1, 2017 to September 30, 2018).

Declaration of Intent To Opt Out of HSACU Designation and Apply for Non Land-Grant College of Agriculture (NLGCA) Designation

As set forth in Section 7101 of the Agricultural Act of 2014 (Pub. L. 113-79), which amends 7 U.S.C. 3103, an institution that is eligible to be designated as an HSACU may notify the Secretary of its intent not to be considered an HSACU. Institutions that opt out of HSACU designation will have the option to apply for designation as a Non-Land Grant College of Agriculture (NLGCA) institution. To opt out of designation as an HSACU, an authorized official at the institution must submit a declaration of intent not to be considered an HSACU to NIFA by email at NLGCA.status@nifa.usda.gov. In accordance with Section 7101, a declaration by an institution not to be considered an HSACU shall remain in effect until September 30, 2018. To be eligible for NLGCA designation, institutions must be public colleges or universities offering baccalaureate or higher degrees in the study of food and agricultural sciences, as defined in 7 U.S.C. 3103. An online form to request NLGCA designation is available at http://nifa.usda.gov/webform/request-non-land-grant-college-agriculture-designation.

In FYs 2016 and 2017, one institution opted out of HSACU designation and received NLGCA designation, hence that institution is excluded from the FY 2018 HSACU list.

Appeal Process

As set forth in 7 CFR 3434.8, NIFA will permit HSIs that are not granted HSACU certification to submit an appeal within 30 days of the publication of this document.

Classification

This rule relates to internal agency management. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, as amended by the Small Business Regulatory Enforcement Fairness Act of 1996, 5 U.S.C. 601 et seq., or the Congressional Review Act, 5 U.S.C. 801 et seq., and thus is exempt from the provisions of those Acts. This rule contains no information collection or recordkeeping requirements under the Paperwork Reduction Act of 1995 (44 U.S.C. 3501 et seq.).

List of Subjects in 7 CFR Part 3434

Administrative practice and procedure, Agricultural research, education, extension, Hispanic-serving institutions, Federal assistance.

Accordingly, part 3434 of title 7 of the Code of Federal Regulations is amended as set forth below:

PART 3434—HISPANIC-SERVING AGRICULTURAL COLLEGES AND UNIVERSITIES CERTIFICATION PROCESS

1. The authority citation for part 3434 continues to read as follows:

Authority: 7 U.S.C. 3103.

2. Revise appendix B to read as follows:

Appendix B to Part 3434—List of HSACU Institutions, 2017-2018

The institutions listed in this appendix are granted HSACU certification by the Secretary and are eligible for HSACU programs for the period starting October 1, 2017, and ending September 30, 2018. Institutions are listed alphabetically under the state of the school's location, with the campus indicated where applicable.

Arizona (6)

Arizona Western College

Central Arizona College

Cochise County Community College

Phoenix College

Pima Community College

University of Arizona

California (63)

Allan Hancock College

Antioch University-Los Angeles

Bakersfield College

Cabrillo College

California Baptist University

California State University-San Bernardino

California State University-Dominguez Hills

California State University-Long Beach

California State University-Los Angeles

California State University-East Bay

University of California-Irvine

University of California-Riverside

University of California-Santa Barbara

University of California-Santa Cruz

California Lutheran University

Chaffey College

Craft Hills College

College of the Desert

College of the Sequoias

Cosumnes River College

Cuesta College

Cuyamaca College

El Camino Community College District

Foothill College

Fresno Pacific University

Fullerton College

Golden West College

Hartnell College

Imperial Valley College

Las Positas College

Long Beach City College

Los Angeles Pierce College

Mendocino College

Merced College

Mills College

MiraCosta College

Modesto Junior College

Mt. San Antonio College

Mt. San Jacinto Community College District

Napa Valley College

National University

Orange Coast College

Pacific Union College

Porterville College

Reedley College

Santa Ana College

Santa Barbara City College

Santa Monica College

San Bernardino Valley College

San Diego City College

San Diego Mesa College

San Diego State University

San Jose State University

Saint Mary's College of California

Southwestern College

University of California-Irvine

University of California-Riverside

University of California-Santa Cruz

Victor Valley College

West Hills College-Coalinga

Whittier College

Woodland Community College

Yuba College

Colorado (2)

Aims Community College

Community College of Denver

Florida (5)

Broward College

Florida International University

Miami Dade College

Palm Beach State College

Valencia College

Illinois (1)

Dominican University

Kansas (3)

Dodge City Community College

Garden City Community College

Seward County Community College and Area Technical School

Massachusetts (1)

Springfield Technical Community College

Nevada (2)

College of Southern Nevada

Truckee Meadows Community College

New Jersey (5)

Essex County College

Kern University

Saint Peter's University

New Mexico (10)

Central New Mexico Community College

Eastern New Mexico University-Main Campus

Eastern New Mexico University-Ruidoso Campus

Mesalands Community College

New Mexico Highlands University

Northern New Mexico College

Santa Fe Community College

Western New Mexico University

University of New Mexico-Los Alamos Campus

University of New Mexico-Main Campus

New York (5)

CUNY City College

CUNY Hunter College

CUNY LaGuardia Community College

Mercy College

SUNY Westchester Community College

Oregon (1)

Chemeketa Community College

Puerto Rico (15)

Instituto Tecnologico de Puerto Rico-Recinto de Manati

Inter American University of Puerto Rico-Aguadilla

Inter American University of Puerto Rico-Bayamon

Inter American University of Puerto Rico-Metro

Inter American University of Puerto Rico-San German

Inter American University of Puerto Rico-Ponce

Pontifical Catholic University of Puerto Rico-Ponce

Universidad Del Turabo

Universidad Metropolitana

University of Puerto Rico-Arecibo

University of Puerto Rico-Humacao

University of Puerto Rico-Utuado

University of Puerto Rico-Medical Sciences

University of Puerto Rico-Rio Piedras

University of Puerto Rico-Mayaguez

Texas (24)

Concordia University-Texas

Houston Community College

McLennan Community College

Odessa College

Palo Alto College

Saint Edwards's University

San Antonio College

Southwest Texas Junior College

South Plains College

St. Mary's University

Tarrant County College District

Texas State Technical College

Texas A & M International University

Texas A & M University-Corpus Christi

The University of Texas at El Paso

The University of Texas Rio Grande Valley

The University of Texas at San Antonio

The University of Texas at Brownsville

University of Houston

University of Houston-Clear Lake

University of the Incarnate Word

University of St. Thomas

Western Texas College

Wayland Baptist University

Washington (4)

Columbia Basin College

Heritage University

Wenatchee Valley College

Yakima Valley Community College

Done in Washington, DC, this 8th day of March 2018.
Sonny Ramaswamy,
Director, National Institute of Food and Agriculture.

[FR Doc. 2018-05541 Filed 3-16-18; 8:45 am]

BILLING CODE 3410-22-P